DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, its amendments, and such other appropriate matters that the Under Secretary refers to the Panel for review and advice.

Date and Time: The public meeting will be held on May 4-6, 2011. May 4th from 8 a.m. to 5:30 p.m.; May 5th from 8 a.m. to 5:30 p.m.; and May 6th from 8 a.m. to 3 p.m.

Location: Waikiki Beach Marriott Resort & Spa, 2552 Kalakauna Avenue, Honolulu, Hawaii, tel: (808) 922-6611. Refer to the HSRP Web site listed below for the most current meeting agenda. Times and agenda topics are subject to change.

FOR FURTHER INFORMATION CONTACT: Kathy Watson, HSRP Program Coordinator, National Ocean Service (NOS), Office of Coast Survey, NOAA (NICS), 1315 East West Highway, Silver Spring, Maryland 20910; Telephone: 301-713-2770 ext. 158; Fax: 301-713-4019; E-mail: Hydroservices.panel@noaa.gov or visit the NOAA HSRP Web site at htto://nauticalcharts.noaa.gov/ocslhsro/hsro.htm.

SUPPLEMENTARY INFORMATION: The meeting will be open to the public and public comment periods (on-site) will be scheduled at various times throughout the meeting. These comment periods will be included in the final agenda published before April 27, 2011, on the HSRP Web site listed above. Each individual or group making a verbal presentation will be limited to a total time of five (5) minutes. Comments will be recorded. Written comments should be submitted to Hydroservices.panel@noaa.gov) by April 27, 2011. Written comments received after April 27, 2011, will be distributed to the HSRP, but may not be reviewed until the meeting. Approximately 30 seats will be available for the public, on a first-come, first-served basis.

Matters to be Considered: Development of strategic advice to: (1) Improve the quality and delivery of navigation products and services; (2) maximize the societal value of navigation services; (3) align navigation services to support National Ocean Policy priorities; and (4) provide non-navigation constituencies with services, data, products and expertise. Three stakeholder panels will present and identify issues, recommend improvements and/or address concerns related to regional Pacific: Navigation services, vertical and horizontal datum's, and hazards and coastal management. Other matters to be discussed will include NOAA navigation program office updates, NOAA budget process, HSRP meeting administration, and public comments.

Dated: April 6, 2011.
John E. Lowell, Jr.,
Director, Office of Coast Survey, National Ocean Service, National Oceanic and Atmospheric Administration.

[FR Doc. 2011-8728 Filed 4-11-11; 8:45 am]

BILLING CODE 3510-JE-P